DEPARTMENT OF ENERGY

Federal Energy Regulatory Commission

[Project No. 12714-002]

H2O Providers, LLC; Notice of Preliminary Permit Application Accepted for Filing and Soliciting Comments, Motions To Intervene, and Competing Applications

February 17, 2010.

On November 3, 2009, and revised December 17, 2009 and February 2, 2010, H2O Providers, LLC filed an application for a preliminary permit, pursuant to section 4(f) of the Federal Power Act, proposing to study the feasibility of the South Slope Pumped Storage Project, located on Brush Hollow Creek, near Penrose, in Fremont, Pueblo, and El Paso Counties, Colorado. The project would occupy Federal lands administered by the U.S. Bureau of Land Management. The final transmission line corridor is still under evaluation, but portions may occupy Federal lands administered by the U.S. Department of the Army. The sole purpose of a preliminary permit, if issued, is to grant the permit holder priority to file a license application during the permit term. A preliminary permit does not authorize the permit holder to perform any land disturbing activities or otherwise enter upon lands or waters owned by others without the owners' express permission.

The proposed South Slope Pumped Storage Project would consist of: (1) An upper power reservoir with a storage capacity of approximately 6,000 acre-feet, retained by a 170-foot-high, 6,150-foot-long concrete-faced dam embankment; (2) a lower power reservoir with a storage capacity of approximately 6,400 acre-feet, retained by a 95-foot-high, 4,900-foot-long earth and rockfill embankment; (3) a reserve reservoir that would store approximately 5,000 acre-feet, retained by a 100-foot-high, 1,400-foot-long earth and rockfill embankment and a 7-foot-high, 140-foot-long earth saddle dam; (4) an approximately 28-foot-diameter, 1,400-foot-long steel-lined tunnel; (5) two 20-foot-diameter above-ground penstocks; (6) two 75-foot-diameter, 240-foot-high concrete-lined powerhouse silos, each with an approximately 216-MW reversible turbine unit; (7) an approximately 0.25-mile-long concrete tailrace channel connecting the powerhouse silos and the lower power reservoir; (8) an approximately 30-mile-long, 230-kilovolt transmission line; (9) a 2.5-foot-diameter, 5.3-mile-long pipeline to provide water to the reserve reservoir from the Lester Atterbury Ditch diversion on the north side of the Arkansas River; and (10) appurtenant facilities. The proposed project would have an average annual generation of 946,000 megawatt-hours.

Applicant Contact: Mr. Mark Morley, H2O Providers LLC, 20 Boulder Crescent, Second Floor, Colorado Springs, CO 80903; telephone: (719) 471-1742.

FERC Contact: Jennifer Harper, (202) 502-6136 or via e-mail at jennifer.harper@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-12714) in the docket number field to access the document. For assistance, contact FERC Online Support.

Kimberly D. Bose,
Secretary.

[FR Doc. 2010-3624 Filed 2-23-10; 8:45 am]

BILLING CODE 6717-01-P